INTERNATIONAL TRADE COMMISSION

[Inv. No. 337-TA-742]

In the Matter of Certain Digital Televisions and Components Thereof; Notice of Commission Determination Not To Review an Initial Determination Granting a Motion To Terminate The Investigation in Its Entirety

AGENCY: U.S. International Trade Commission.

ACTION: Notice.

SUMMARY: Notice is hereby given that the U.S. International Trade Commission has determined not to review an initial determination (“ID”) (Order No. 7) of the presiding administrative law judge (“ALJ”) granting the private parties' motion to terminate the investigation in its entirety.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On October 18, 2010, the Commission instituted an investigation under section 337 of the Tariff Act of 1930, 19 U.S.C.1337, based on a complaint filed by LG Electronics, Inc. of Seoul, Korea (“LG”) alleging a violation of section 337 in the importation, sale for importation, and sale within the United States after importation of certain digital televisions and components thereof by reason of infringement of certain claims of U.S. Patent No. RE 37,070; U.S. Patent No. 6,785,906; and U.S. Patent No. 6,598,233. 75 FR 63857 (Oct. 18, 2010). Complainant LG named Vizio, Inc. of Irvine, California, AmTRAN Technology Co., Ltd. of Taipei, Taiwan and AmTRAN Logistic, Inc. of Irvine, California as respondents.

On January 18, 2011, the private parties filed a motion to terminate the investigation in its entirety by reason of a settlement pursuant to Commission Rules 210.21(a)(2) and (b). The movants state that they have entered into a settlement agreement and patent cross license agreements. The Commission investigative attorney supports the motion.

On January 28, 2011, the ALJ issued an ID (Order No. 7) granting the motion. No party petitioned for review of the subject ID. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: February 18, 2011.
William R. Bishop,
Hearings and Meetings Assistant.

[FR Doc. 2011-4443 Filed 2-28-11; 8:45 am]

BILLING CODE 7020-02-P